DEPARTMENT OF HOMELAND SECURITY

Federal Emergency Management Agency

[Docket ID: FEMA-2015-0024; OMB No. 1660-0100]

Agency Information Collection Activities: Submission for OMB Review; Comment Request; General Admissions Applications (Long and Short) and Stipend Forms

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before May 27, 2016.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This proposed information collection previously published in the Federal Register on January 26, 2016 at 81 FR 4330 with a 60 day public comment period. No comments were received. The purpose of this notice is to notify the public that FEMA will submit the information collection abstracted below to the Office of Management and Budget for review and clearance.

Collection of Information

Title: General Admissions Applications (Long and Short) and Stipend Forms.

Type of Information Collection: Revision of a currently approved information collection.

OMB Number: 1660-0100.

Form Titles and Numbers: The form numbers have changed in accordance with the Federal Enterprise Architecture (FEA) numbering system. FEMA Form 119-25-0-1, General Admissions Application; FEMA Form 119-25-0-3, Student Stipend Agreement; FEMA Form 119-25-0-4, Student Stipend Agreement (Amendment); FEMA Form 119-25-0-5, National Fire Academy Executive Fire Officer Program Application for Admission; and FEMA Form 119-25-0-6, Training Registration Form.

Abstract: FEMA provides training to advance the professional development of personnel engaged in fire prevention and control and emergency managemernt activities through its Center for Domestic Preparedness, Emergency Management Institute, National Fire Academy, National Training and Education Division, National Domestic Preparedness Consortium, and Rural Domestic Preparedness Consortium. FEMA Form 119-25-0-1 has an increase in the number of respondents from 25,000 to 52,000 (+27,000) because FEMA is replacing all existing General Admissions Application and Training Registration forms with a single FEMA-wide form which will be submitted as a paper version or using an on-line application process. There was also an adjustment increase for FEMA Form 119-25-0-1 from 3,750 hours to 7,800 (+4,050) hours. The FEMA Form 119-25-0-6 has been created for those courses where less information is required from the respondent. It is expected that 154,500 respondents will used this form requiring 15,450 burden hours. The FEMA Form 119-25-2 (reduction of 80,000 respondents and 8,000 burden hours) is being eliminated and being replaced by the FEMA Form 119-25-0-1.

Affected Public: State, Local or Tribal Government, Business or other for-profit, Not-for-profit institutions and Federal Government.

Estimated Number of Respondents: 214,300.

Estimated Total Annual Burden Hours: 24,400.

Estimated Cost: 2,063,978.

Dated: April 20, 2016.
Richard W. Mattison,
Records Management Program Chief, Mission Support, Federal Emergency Management Agency, Department of Homeland Security.

[FR Doc. 2016-09844 Filed 4-26-16; 8:45 am]

BILLING CODE 9111-72-P